DEPARTMENT OF COMMERCE

National Oceanic and Atmospheric Administration

[I.D. 121704C]

New England Fishery Management Council; Public Meetings

AGENCY: National Marine Fisheries Service (NMFS), National Oceanic and Atmospheric Administration (NOAA), Commerce

ACTION: Public meeting.

SUMMARY: The New England Fishery Management Council (Council) is scheduling a public meeting of its Ad Hoc Bycatch Committee in January, 2005 to consider actions affecting New England fisheries in the exclusive economic zone (EEZ). Recommendations from this group will be brought to the full Council for formal consideration and action, if appropriate.

DATES: The meeting will be held on January 14, 2005. See SUPPLEMENTARY INFORMATION for specific dates and times.

ADDRESSES: The meeting will be held in Mansfield, MA. See SUPPLEMENTARY INFORMATION for specific location.

FOR FURTHER INFORMATION CONTACT: Paul J. Howard, Executive Director, New England Fishery Management Council (978) 465-0492. Requests for special accommodations should be addressed to the New England Fishery Management Council, 50 Water Street, Mill 2, Newburyport, MA 01950; telephone: (978) 465-0492.

SUPPLEMENTARY INFORMATION: Friday, January 14, 2005 at 9:00 a.m. - Ad Hoc Bycatch Committee Meeting.

Location: Holiday Inn, 31 Hampshire Street, Mansfield, MA 02048; telephone: (978) 339-2200.

The Ad Hoc Bycatch Committee will meet to continue development of fishery management measures to reduce potential bycatch of the very large 2003-year class of haddock. They will also review available bycatch information and refine practicable management measures identified at the last meeting to address anticipated haddock bycatch issues in the herring, groundfish and whiting fisheries.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least five days prior to the meeting dates.

Dated: December 17, 2004.
Alan D. Risenhoover,
Acting Director, Office of Sustainable Fisheries, National Marine Fisheries Service.

[FR Doc. E4-3768 Filed 12-21-04; 8:45 am]

BILLING CODE 3510-22-S